DEPARTMENT OF HEALTH AND HUMAN SERVICES

Substance Abuse and Mental Health Services Administration

Meeting of the Substance Abuse and Mental Health Services Administration Center for Substance Abuse Prevention National Advisory Council; Correction

AGENCY: Substance Abuse and Mental Health Services Administration, HHS.

ACTION: Notice; correction.

SUMMARY: The Substance Abuse and Mental Health Services Administration published a document in the Federal Register of April 5, 2023, announcing the meeting of the SAMHSA Center for Substance Abuse Prevention National Advisory Council (CSAP NAC) of April 25, 2023. The document contained incorrect date in the Dates section.

FOR FURTHER INFORMATION CONTACT: Michelle Mcvay, michelle.mcvay@samhsa.hhs.gov. Telephone number (240) 276-0446.

SUPPLEMENTARY INFORMATION:

Correction

In the Federal Register of April 5, 2023, in FR Doc. 2023-07033, on page 20175, in the second column, correct the Dates caption to read:

DATES: April 25, 2023, 9:00 a.m. to approximately 4:00 p.m. EDT, Open

Dated: April 5, 2023.
Carlos Castillo,
Committee Management Officer.

[FR Doc. 2023-07463 Filed 4-7-23; 8:45 am]

BILLING CODE 4162-20-P